DEPARTMENT OF JUSTICE

[OMB Number 1121-0249]

Agency Information Collection Activities; Proposed eCollection eComments Requested; Proposed Collection: Revision of Currently Approved Collection Survey: Death in Custody Reporting Program—Prisons

AGENCY: Bureau of Justice Statistics, Department of Justice.

ACTION: 60-day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until November 3, 2015.

FOR FURTHER INFORMATION CONTACT: If you have additional comments especially on the estimated public burden or associated response time, suggestions, or need a copy of the proposed information collection instrument with instructions or additional information, please contact Margaret Noonan, Statistician, Bureau of Justice Statistics, 810 Seventh Street NW., Washington, DC 20531 (email: Margaret.Noonan@usdoj.gov; telephone: 202-353-2060).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Extension of a Currently Approved Collection.

(2) The Title of the Form/Collection: Deaths in Custody Reporting Program—State Prisons. The collection includes the Deaths in Custody Reporting Program (DCRP)—State Prisons.

(3) The agency form number, if any, and the applicable component of the Department sponsoring the collection:

This collection includes the following forms:

• NPS-4: Annual Summary of Inmate Deaths in State Prisons. This is sent to the 50 state departments of correction.

• NPS-4A: State Prison Inmate Death Report. This is sent to the 50 state departments of correction.

The applicable component within the Department of Justice is the Bureau of Justice Statistics (Corrections Unit), in the Office of Justice Programs.

(4) Affected public who will be asked or required to respond, as well as a brief abstract: The affected public that will be asked to respond include 50 state department of corrections authorities.

Originally authorized by the Death in Custody Reporting Act (DICRA) of 2000, the Death in Custody Reporting Program (DCRP) is the only national database that can inform the issue of mortality in local jails and prisons in depth. BJS uses this data to track and report on total and cause-specific deaths and mortality rates in correctional facilities. The local jail portion of the collection is now part of the BJS Annual Jail Collection, and is not addressed in this notice. The arrest-related death collection, which was historically part of the DCRP, has been temporarily suspended and is also not part of this clearance.

The DCRP-prisons collection has two components: A summary count of the number of deaths occurring in state departments of correction and individual-level death forms that collect information on inmates dying while in the custody of state prisons. Specifically, the following items are collected:

(a) Number of persons who died while in the custody of state correctional facilities.

(b) The first, last name and middle initial, date of death, date of birth, sex, and race/ethnic origin for each inmate who died during the reporting year.

(c) The name and location of the correctional facility involved.

(d) The admission date and current offense(s) for each inmate who died during the reporting year.

(e) Whether the inmate ever stayed overnight in a mental health observation unit or outside mental health facility.

(f) The location and cause of death of each inmate death that took place during the reporting year.

(g) The time of day that the incident causing the inmate's death occurred and where the incident occurred (limited to accidents, suicides, and homicides only).

(h) Whether the cause of death was a preexisting medical condition or a condition that developed after admission to the facility and whether the inmate received treatment for the medical condition after admission and if so, the kind of treatment received (deaths due to accidental injury, intoxication, suicide, or homicide do not apply).

(i) Whether an autopsy/postmortem exam/review of medical records to determine the cause of death of the inmate was performed and the availability of those results.

(j) The survey ends with a box in which respondents can enter notes.

(k) Confirmation or correction of the agency and agency head's name, phone number, email address, and mailing address.

(l) Confirmation or correction of the agency's primary point of contact for data collection, title, phone number, email address, and mailing address;

(5) An estimate of the total number of respondents and the amount of time estimated for an average respondent to respond: Prior to 2015, DCRP clearance included deaths in the process of arrest, local jails and state prisons. The arrest-related death collection has been temporarily suspended due to data quality and coverage issues. The arrest-related death collection will seek a separate OMB clearance when work on the project begins again. In an effort to reduce burden on respondents and minimize costs associated with the ASJ and the DCRP, the ASJ will be fielded along with the DCRP beginning in early 2016. The major change to the DCRP collection is the downgrade in burden hours to account for the ARD and DCRP-jail collections no longer being a part of the clearance package. Otherwise, there are no proposed substantive changes to the DCRP-prisons collection. DCRP-prisons (NPS-4, NPS-4A)—There will be 50 respondents to DCRP-prisons for collection year 2015. It takes current DCRP respondents an average of 30 minutes to complete the death form and 5 minutes to complete the annual summary form, or 1,704 burden hours.

(a) BJS collection agent also makes verification calls to prison respondents to ensure data quality. With 50 respondents and 9 minute per call, data verification induces a burden of 8 hours.

Form | Purpose of contact | Number of data suppliers | Number of responses | Average reporting time (min) | Burden hours
NPS-4 | DCRP Annual Summary | 50 | 50 | 5 | 4
NPS-4A | DCRP death records | 50 | 3,400 | 30 | 1,700
| ASJ-DCRP verification call | 50 | 50 | 9 | 8
Total 2016 |  |  |  |  | 1,712

(6) An estimate of the total public burden (in hours) associated with the collection: The estimated total burden hours associated with this collection for report year 2016 is 1,712.

If additional information is required contact: Jerri Murray, Department Clearance Officer, United States Department of Justice, Justice Management Division, Policy and Planning Staff, Two Constitution Square, 145 N Street NE., 3E.405B, Washington, DC 20530.

Dated: September 1, 2015.
Jerri Murray,
Department Clearance Officer for PRA, U.S. Department of Justice.

[FR Doc. 2015-22016 Filed 9-3-15; 8:45 am]

BILLING CODE 4410-18-P